DEPARTMENT OF TRANSPORTATION

Federal Highway Administration

Environmental Impact Statement for the South Capitol Street Roadway Improvement and Bridge Replacement Project

AGENCY: Federal Highway Administration (FHWA), DOT.

ACTION: Notice of Intent to Prepare a Draft Environmental Impact Statement (DEIS).

SUMMARY: The Federal Highway Administration (FHWA) in coordination with the District Department of Transportation (DDOT) in Washington, DC is issuing this notice to advise agencies and the public that a Draft Environmental Impact Statement (DEIS) to assess the impacts of potential effects of proposed transportation improvements in the South Capitol Street Corridor is being prepared.

FOR FURTHER INFORMATION CONTACT: Federal Highway Administration, District of Columbia Division: Mr. Michael Hicks, Environmental/Urban Engineer, 1900 K Street, Suite 510, Washington, DC 20006-1103, (202) 219-3513; or Mr. John Deatrick, Deputy Director/Chief Engineer, District of Columbia, Department of Transportation, (202-671-2800).

SUPPLEMENTARY INFORMATION: The environmental review of transportation improvement alternatives in the South Capitol Street Corridor will be conducted in accordance with the requirements of the National Environmental Policy Act (NEPA) of 1969, as amended (42 U.S.C. 4371, et seq.), Council on Environmental Quality (CEQ) regulations (40 CFR parts 1500-1508), FHWA Code of Federal Regulations (23 CFR 771.101-771.137, et seq.), and all applicable Federal, State, and local government laws, regulations, and policies.

Public Scoping Meetings

DDOT will solicit public comments for consideration and possible incorporation in the DEIS through public scoping, including scoping meetings, on the proposed improvements. To ensure that the full ranges of issues related to this proposed action are addressed and all significant issues are identified early in the process, comments and suggestions are invited from all interested and/or potentially affected parties. These individuals or groups are invited to attend the public scoping meeting. The meeting location and time will be publicized in local newspapers and elsewhere. Written comments will be accepted throughout this process and can be forwarded to the address provided above.

Meeting dates, times, and locations will be announced on the project Web-site accessible at http://www.SouthCapitolEIS.com and in the following newspapers: The Washington Post, The Washington Times, The Hill Rag, East of the River, The Southwester, and La Nacion USA.

Scoping materials will be available at the meetings and may also be obtained in advance of the meetings by contacting Mr. John Deatrick. Scoping materials will be made available on the project web-site. Oral and written comments may be given at the scoping meetings. Comments may also be sent to the address above. A stenographer will be available at the meetings to record comments. Scoping information will be made available in both English and Spanish.

Description of Primary Study Area and Transportation Needs

The South Capitol Street Corridor is located in the southwest and southeast quadrants of the District of Columbia. The South Capitol Street Corridor extends from Martin Luther King, Jr. Avenue to the U.S. Capitol in Washington, DC along South Capitol Street. Proposed improvements, including improvements to the Frederick Douglass Memorial Bridge, would be made between Suitland Parkway at Martin Luther King, Jr. Avenue and Independence Avenue, and New Jersey Avenue between M Street, SE., and Independence Avenue.

The purpose of the South Capitol Street project is to create a new gateway. This gateway will consist of a balanced, sustainable, multimodal transportation network that knits neighborhoods together and facilitates the movement of commuters with minimal impact on the surrounding neighborhoods. The South Capitol Street Corridor, as defined in the AWI Framework Plan, is intended to provide better access to waterfront areas east and west of the river, including Poplar Point and Buzzard Point, and better serve historic Anacostia, and near southeast and southwest neighborhoods. The future Anacostia Waterfront will include a cleaner river, sustainable waterfront neighborhoods, new and revitalized waterfront parks, and vibrant cultural attractions. The creation of new transit stops and pedestrian facilities where none exist, due to physical barriers along South Capitol Street and Suitland Parkway, will create new opportunities for movement throughout the corridor. Without improvements to facilitate the efficient traffic flow of all modes, the level and duration of congestion will continue to deteriorate throughout the corridor.

The project includes the proposed redevelopment of South Capitol Street per, the National Capital Planning Commission's 1997 plan, Extending the Legacy, Planning America's Capital for the 21st Century. The plan includes South Capitol Street as a civic gateway to central Washington providing a mix of shopping, housing, and offices. It also proposes replacing the Frederick Douglass Memorial Bridge with a new six-lane span that would accommodate pedestrians and bicycles. The 2003 South Capitol Gateway and Corridor Improvement Study, completed under congressional direction, expressed the challenges and opportunities for this corridor including disinvestments, traffic functionality, local access, and the general need to restore this corridor to its original intent as a grand gateway to the nation's capital.

The Anacostia Waterfront Initiative (AWI) seeks to restore the river's water quality, reclaim the waterfront as a magnet of activity, and stimulate sustainable development in waterfront neighborhoods. The development of the South Capitol Street Corridor is an important early step in the reinvestment and reclamation process. There is also a need to support the development of new mixed-use development and employment in the corridor that benefits existing residents, providing transportation support for a variety of new housing and economic development activities. Development in the Southeast Federal Center and Washington Navy Yard, as well as construction of the proposed ballpark and on Buzzard Point, will be adding large numbers of jobs and creating new residential neighborhoods. Early traffic estimates project the addition of 3,250 vehicles and 7,800 pedestrians during ballpark events. The corridor could enhance the vitality and safety of the District's roads and neighborhoods around them, by creating places and destinations for pedestrians and bicycles.

(Catalog of Federal Domestic Assistance Program Number 20.205 Highway Planning and Construction. The regulations and implementing Executive Order 12372 regarding intergovernmental consultation on Federal programs and activities apply to this program)

Authority 23 U.S.C. 315; 49 CFR 1.48.

Issued on: April 21, 2005.
Gary L. Henderson,
Division Administrator, District of Columbia Division, Federal Highway Administration.

[FR Doc. 05-8330 Filed 4-25-05; 8:45 am]

BILLING CODE 4910-22-P